DEPARTMENT OF VETERANS AFFAIRS

38 CFR Part 36

RIN 2900-AN71

Loan Guaranty: Elimination of Redundant Regulations; Correction

AGENCY: Department of Veterans Affairs.

ACTION: Final rule; technical correction.

SUMMARY: The Department of Veterans Affairs (VA) published a document in the Federal Register on June 15, 2010 (75 FR 33704), amending its loan guaranty regulations to eliminate redundant regulations following the phase-in of a new electronic reporting system. At that time, we failed to update the cross-reference citations within the redesignated sections. This document corrects those sections by replacing the incorrect cross-reference citations with the updated, accurate cross-references. These nonsubstantive changes are made for clarity and accuracy.

DATES: Effective Date: October 22, 2010.

FOR FURTHER INFORMATION CONTACT: William White, Acting Assistant Director for Loan Processing and Valuation (262), Veterans Benefits Administration, Department of Veterans Affairs, 810 Vermont Avenue, NW., Washington, DC 20420, (202) 461-9543.

SUPPLEMENTARY INFORMATION: On June 15, 2010 (75 FR 33704), VA amended 38 CFR part 36 to eliminate redundant and obsolete regulations found at 38 CFR 36.4300 through 36.4393 (the “36.4300 series”). VA redesignated regulations that had previously been published at 38 CFR 36.4800 through 36.4893 (the “36.4800 series”) to replace the 36.4300 series in its entirety.

With this action, VA is amending the 36.4300 series regulations to update remaining internal cross-references to the 36.4800 series regulations. This action is necessary because the 36.4800 series has been removed from 38 CFR part 36, making the current cross reference citations to the series obsolete. VA is amending each citation by simply replacing the numbers “48” with “43” (e.g., changed the reference to § 36.4860 to read § 36.4360.)

For the convenience of the reader, we have included a redesignation table that shows each affected section, the cross reference that is removed, and the new cross reference that is added in its place.

Administrative Procedure Act

This final rule is only a technical correction to the interior cross-references within these regulations. Accordingly, it is exempt from the prior notice-and-comment and delayed-effective-date requirements of 5 U.S.C. 553.

List of Subjects in 38 CFR Part 36

Condominiums, Housing, Veterans with disabilities, Loan programs—housing and community development, Loan programs—veterans, Grant program—veterans, Manufactured homes, Mortgage insurance, Reporting and recordkeeping requirements, Veterans.

Approved: October 18, 2010.
Robert C. McFetridge,
Director, Regulation Policy and Management, Office of the General Counsel, Department of Veterans Affairs.

For the reasons set forth in the preamble, 38 CFR part 36 is corrected by making the following correcting amendments:

PART 36—LOAN GUARANTY

1. The authority citation for part 36 continues to read as follows:

Authority: 38 U.S.C. 501 and as otherwise noted.

§§ 36.4301, 36.4302, 36.4303, 36.4306, 36.4307, 36.4309, 36.4310, 36.4312, 36.4313, 36.4314, 36.4315, 36.4316, 36.4317, 36.4319, 36.4320, 36.4322, and 36.4323 [Amended]

2. In the table below, for each section indicated in the left column, remove the cross-reference indicated in the middle column from wherever it appears in the section, and add the cross-reference indicated in the right column:

Redesignation Table
Amended sections: | Remove cross-reference citations: | Add, in its place, new cross-reference citations:
§ 36.4301 | §§ 36.4860 through 36.4865 | §§ 36.4360 through 36.4365.
§ 36.4301 | § 36.4801 | § 36.4301.
§ 36.4301 | §§ 36.4800 through 36.4893 | §§ 36.4300 through 36.4393.
§ 36.4301 | § 36.4814 | § 36.4314.
§ 36.4301 | § 36.4823 | § 36.4323.
§ 36.4301 | § 36.4819 | § 36.4319.
§ 36.4301 | § 36.4818 | § 36.4318.
§ 36.4301 | § 36.4824(a) | § 36.4324(a).
§ 36.4301 | § 36.4814 | § 36.4314.
§ 36.4302(e) | § 36.4803(g) | § 36.4303(g).
§ 36.4302(g) | § 36.4803 | § 36.4303.
§ 36.4302(h) | § 36.4815 | § 36.4315.
§ 36.4303(a)(2) | § 36.4801 | § 36.4301.
§ 36.4303(a)(2) | § 36.4804 | § 36.4304.
§ 36.4303(d)(3) | § 36.4801(c) | § 36.4301(c).
§ 36.4303(d)(3) | § 36.4804 | § 36.4304.
§ 36.4303(f) | § 36.4853 | § 36.4353.
§ 36.4303(l)(1)(i)(A) | § 36.4813(e)(2) | § 36.4313(e)(2).
§ 36.4303(l)(1)(i)(B) | § 36.4813(d)(8) | § 36.4313(d)(8).
§ 36.4303(l)(1)(ii)(D) | § 36.4813(d)(8) | § 36.4313(d)(8).
§ 36.4306(a) | § 36.4802(a) | § 36.4302(a).
§ 36.4306(a)(2) | § 36.4813(d)(7)(i) | § 36.4313(d)(7)(i).
§ 36.4306(g)(4) | § 36.4813(d)(6) | § 36.4313(d)(6).
§ 36.4306(g)(4) | § 36.4813 | § 36.4313.
§ 36.4306(g)(5) | § 36.4802(a) | § 36.4302(a).
§ 36.4307(a)(3) | § 36.4839(a)(4) | § 36.4339(a)(4).
§ 36.4307(a)(3) | § 36.4840 | § 36.4340.
§ 36.4307(a)(4)(i) | § 36.4813(d) | § 36.4313(d).
§ 36.4307(a)(4)(ii) | § 36.4839(a)(4) | § 36.4339(a)(4).
§ 36.4307(a)(5) | § 36.4840 | § 36.4340.
§ 36.4307(b) | § 36.4802(a) | § 36.4302(a).
§ 36.4307(b) | § 36.4802(h) | § 36.4302(h).
§ 36.4307(c) | § 36.4854 | § 36.4354.
§ 36.4309(c)(1)(vi) | § 36.4826 | § 36.4326.
§ 36.4309(f)(2) | § 36.4850(i)(2) | § 36.4350(i)(2).
§ 36.4310(a) | § 36.4815 | § 36.4315.
§ 36.4310(d) | § 36.4837 | § 36.4337.
§ 36.4312(b) | § 36.4813(d)(6) and (d)(7) | § 36.4313(d)(6) and (d)(7).
§ 36.4312(c) | § 36.4815 | § 36.4315.
§ 36.4313(d)(1)(v) | § 36.4829 | § 36.4329.
§ 36.4313(d)(1)(vi) | §§ 36.4860 through 36.4865 | §§ 36.4360 through 36.4365.
§ 36.4313(d)(4) | § 36.4859 | § 36.4359.
§ 36.4313(d)(7)(iii) | § 36.4801 | § 36.4301.
§ 36.4313(d)(7)(iv) | § 36.4845(b) | § 36.4345(b).
§ 36.4314(b) | § 36.4824(a) | § 36.4324(a).
§ 36.4314(d) | § 36.4845(b) | § 36.4345(b).
§ 36.4314(f)(2) | § 36.4822(a) | § 36.4322(a).
§ 36.4315(a)(3) | § 36.4840 | § 36.4340.
§ 36.4316 | § 36.4801 | § 36.4301.
§ 36.4316(c) | § 36.4828(b) | § 36.4328(b).
§ 36.4317(c)(4) | § 36.4827 | § 36.4327.
§ 36.4317(c)(13) | § 36.4850(g)(1)(iv) | § 36.4350(g)(1)(iv).
§ 36.4319(a) | § 36.4817(c) | § 36.4317(c).
§ 36.4319(c)(1) | § 36.4801 | § 36.4301.
§ 36.4319(c)(2) | § 36.4801 | § 36.4301.
§ 36.4320(a) | § 36.4817 | § 36.4317.
§ 36.4320(a) | § 36.4828 | § 36.4328.
§ 36.4322(b)(2) | 38 CFR 36.4848 | 38 CFR 36.4348.
§ 36.4322(c) | § 36.4801 | § 36.4301.
§ 36.4322(f)(1)(iv) | § 36.4823 | § 36.4323.
§ 36.4323(c) | § 36.4814 | § 36.4314.
§ 36.4323(d)(5)(ii) | § 36.4854(b) | § 36.4354(b).
§ 36.4323(d)(5)(ii)(B) | § 36.4827 | § 36.4327.
§ 36.4323(e) | § 36.4828 | § 36.4328.

[FR Doc. 2010-26580 Filed 10-21-10; 8:45 am]

BILLING CODE 8320-01-P